DEPARTMENT OF COMMERCE

National Oceanic and Atmospheric Administration

[RTID 0648-XE630]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee.

DATES: The meetings will be held Tuesday, February 11 through Wednesday, February 12, 2025. For agenda details, see SUPPLEMENTARY INFORMATION.

ADDRESSES: This will be a fully virtual meeting. Council members, other meeting participants, and members of the public will participate via Webex webinar. Webinar connection instructions and briefing materials will be available at https://www.mafmc.org/briefing/february-2025.

Council address: Mid-Atlantic Fishery Management Council, 800 N State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order, (changes will be noted on the Council's website when possible).

Tuesday, February 11, 2025

Executive Committee—Closed Session

Review Scientific and Statistical Committee (SSC) membership applications.

Spiny Dogfish Accountability Measures Framework

Introduction to the purpose of this framework and review the range of alternatives that may be considered.

Recreational Sector Separation and Data Collection Amendment: Recreational for-Hire Control Dates

Consider requesting that NOAA Fisheries publish control dates for recreational for-hire permits for summer flounder, scup, black sea bass, and bluefish.

Legal Review, Financial Disclosure, and Recusal Training—John Almeida, NOAA Fisheries General Counsel

---------- LUNCH ----------

Northeast Fisheries Science Center (NEFSC) Survey Update—Dr. Kathryn Ford, NEFSC

Updates on the NOAA Ship Henry B. Bigelow Bottom Trawl Operations and Contingency Plans.

Recent developments related to the Industry-Based Survey Pilot Project.

Fishing Gear Effects on Marine Habitats: A National Database Presentation—Dr. David Stevenson and Tori Kentner

Overview of Council project to develop searchable collection of literature on impacts of fishing gear on the marine fish habitats throughout the United States and U.S. Territories.

Locking Away Carbon on the Northeast Shelf and Slope (LOC-NESS)—Dr. Adam Subhas, Woods Hole Oceanographic Institution

Presentation on the LOC-NESS project focused on marine Carbon Dioxide Removal (mCDR).

Standardized Bycatch Reduction Methodology (SBRM) 3-Year Review

Council staff will summarize the required 3-year review (covers SBRM performance from July 2019 through June 2022).

Wednesday, February 12, 2025

Business Session

Committee Reports—SSC, NTAP; Executive Director's Report—Review and appoint SSC membership; Organization Reports; Liaison Reports.

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: January 23, 2025.
Rey Israel Marquez,
Acting Deputy Director, Office of Sustainable Fisheries, National Marine Fisheries Service.

[FR Doc. 2025-01838 Filed 1-27-25; 8:45 am]

BILLING CODE 3510-22-P